DEPARTMENT OF ENERGY

Western Area Power Administration

Construction and Operation of the Quartzsite Solar Energy Project, La Paz County, AZ (DOE/EIS-0440)

AGENCY: Western Area Power Administration, DOE.

ACTION: Notice of Intent To Prepare an Environmental Impact Statement and To Conduct Scoping Meetings; Notice of Floodplain and Wetlands Involvement.

SUMMARY: The Western Area Power Administration (Western), an agency of the DOE, intends to prepare an environmental impact statement (EIS) for the proposed Quartzsite Solar Energy Project (Project) in La Paz County, near Quartzsite, Arizona. Quartzsite Solar Energy, LLC (QSE) has applied to Western to interconnect the proposed Project to Western's power transmission system. Western is issuing this notice to inform the public and interested parties about Western's intent to prepare an EIS, to conduct a public scoping process, and to invite the public to comment on the scope, proposed action, alternatives, and issues to be addressed in the EIS. Solar Reserve has applied to the Bureau of Land Management (BLM), Yuma Field Office for a right-of-way grant for the proposed solar power plant. Western will apply to BLM for a right-of-way grant for the proposed substation.

This EIS will address Western's Federal action of interconnecting the proposed Project to Western's transmission system and making any necessary modification to Western facilities to accommodate the interconnection. The EIS will also review the potential environmental impacts of QSE constructing, operating, and maintaining a 100-megawatt (MW) (net) solar-powered generating facility, consisting of a solar field of heliostat mirrors, power block, thermal energy storage system, substation site, transmission line, temporary laydown areas, and other ancillary facilities.

The BLM has agreed to be a cooperating agency for the EIS.

DATES: Public scoping meetings will be held:

1. January 26, 2010, BLM, Yuma Field Office, 2555 E. Gila Ridge Road, Yuma, AZ 85365.

2. January 27, 2010, Blue Water Casino, 11300 Resort Dr., Parker, AZ 85344.

3. January 28, 2010, Quartzsite Town Hall, 465 N. Plymouth Ave., Quartzsite, AZ 85346.

The public scoping meetings will begin at 6 p.m. and will end at 8 p.m. The meetings will be informal, and attendees will be able to speak directly with Western and QSE representatives about the proposed Project. The public scoping period begins with the publication of this notice and closes on February 16, 2010. Announcements will also be made by news release to the media, individual letter mailings, and posting on the Western Web site listed below.

ADDRESSES: Western will host public scoping meetings at the time and locations indicated in the DATES section. Oral or written comments may be provided at the public scoping meetings, mailed or e-mailed to Ms. Mary Barger. Comments should be addressed to Ms. Mary Barger, National Environmental Policy Act (NEPA) Document Manager, Western Area Power Administration, Desert Southwest Region, P.O. Box 6457, 615 S. 43rd Avenue, Phoenix, AZ 85005 or quartzsitesolarEIS@wapa.gov.

FOR FURTHER INFORMATION CONTACT: For information on the proposed Project and general information about interconnections with Western's transmission system, you may refer to the project Web site http://www.wapa.gov/transmission/quartzsitesolar.htm or contact Ms. Mary Barger, NEPA Document Manager, at the address above, by telephone (602) 605-2524, fax (602) 605-2630, or e-mail quartzsitesolarEIS@wapa.gov.

For general information on DOE's NEPA review procedures or status of a NEPA review, contact Ms. Carol M. Borgstrom, Director of NEPA Policy and Compliance, GC-54, U.S. Department of Energy, 1000 Independence Avenue, SW., Washington, DC 20585, telephone (202) 586-4600 or (800) 472-2756.

For information on BLM's participation, contact Eddie Arreola, Supervisory Project Manager, Bureau of Land Management, One North Central Avenue, Phoenix, AZ 85004, telephone (602) 417-9505, fax (602) 417-9454, or e-mail Quartzsite_Solar@blm.gov.

SUPPLEMENTARY INFORMATION: Western, an agency within DOE, markets Federal hydroelectric power to preference customers, as specified by law. These customers include municipalities, cooperatives, irrigation districts, Federal and State agencies, and Native American tribes. Western's service territory covers 15 western states, of which Arizona is included. Western owns and operates more than 17,000 miles of high-voltage transmission lines.

QSE is a Santa Monica, California-based energy company formed by U.S. Renewables Group, a private equity firm focused exclusively on renewable energy.

Project Description and Alternatives

QSE proposes to construct a 100-MW (net), solar-powered electrical generation facility in La Paz County, Arizona. The solar power facility would occupy approximately 1,450 acres of BLM administered lands within a larger BLM administered area. The proposed Project would be located approximately six miles north of Quartzsite, and adjacent to Arizona State Route 95. The proposed Project, powerline and ancillary facilities would be on BLM administered land.

The proposed Project would use concentrating solar “power tower” technology to capture the sun's heat to make steam, which would power traditional steam turbine generators. The solar power facility would contain the power block, a central receiver or tower, solar fields which consist of mirrors or heliostats to reflect the sun's energy to the central tower, a thermal energy storage system, technical and non-technical buildings, a stormwater system, water supply and treatment systems, a wastewater system, and other supporting facilities.

Other Project components would include access roads, an electrical substation, and a transmission line. The access road would originate from Highway 95 and extend approximately 0.5 miles to the perimeter of the solar power facility.

QSE has applied to Western to interconnect the proposed Project to Western's transmission system. The transmission line from the solar facility would extend approximately 0.5 miles from the solar facility boundary to a new substation to be constructed adjacent to Western's existing line. The substation would be owned, operated, and maintained by Western, and would be located adjacent to Western's existing Bouse-Kofa 161-kV line that parallels State Route 95 in the vicinity of Quartzsite, Arizona. The substation would be approximately 300 x 400 feet, or about 2 to 3 acres.

An on-site temporary laydown area would be used during the construction phase of the Project. The laydown areas, outside of the solar facility boundary, total approximately 30 acres and would be used for storage and assembly of proposed Project components and for temporary construction trailers.

Proposed Agency Action and Alternatives

Western's proposed actions are to build a new substation and to interconnect the proposed Project to Western's transmission system at the substation described above.

Western will also consider the no-action alternative in the EIS. Under the no-action alternative, Western would deny the interconnection request and would not build a new substation. For the purpose of impact analysis and comparison in the EIS, it will be assumed that the Applicant's proposed Project would not be built and the environmental impacts associated with construction and operation would not occur.

Agency Responsibilities

Because interconnection of the proposed Project would incorporate a major new generation resource into Western's power transmission system, Western has determined that an EIS is required under DOE NEPA implementing procedures, 10 CFR part 1021, Subpart D, Appendix D, class of action D6.¹ Western would be the lead Federal agency for preparing the EIS, as defined at 40 CFR 1501.5. The proposed Project would include construction of a new electrical generating facility, substation and transmission line across lands managed by the BLM; therefore, the BLM has agreed to be a cooperating agency for preparation of the EIS. Western will invite other Federal, State, local, and tribal agencies with jurisdiction by law or special expertise with respect to environmental issues to be cooperating agencies on the EIS, as defined at 40 CFR 1501.6. Such agencies may also make a request to Western to be a cooperating agency by contacting Ms. Barger at the address listed above in the ADDRESSES section. Because the proposed Project may involve action in floodplains or wetlands, this NOI also serves as a notice of proposed floodplain or wetland action, in accordance with DOE regulations for Compliance with Floodplain and Wetlands Environmental Review Requirements at 10 CFR 1022.12(a). The EIS will include a floodplain/wetland assessment and, if required, a floodplain/wetland statement of findings will be issued with the Final EIS or Western and BLM's Records of Decision (ROD).

¹ On October 4, 1999, DOE's Assistant Secretary for Environmental, Safety and Health delegated to Western's Administrator the authority to approve EISs for integrating transmission facilities with Western's transmission grid.

Environmental Issues

This notice is to inform agencies and the public of Western's intent to prepare an EIS and solicit comments and suggestions for consideration in the EIS. To help the public frame its comments, the following list contains potential environmental issues preliminarily identified for analysis in the EIS:

1. Impacts on protected, threatened, endangered, or sensitive species of animals or plants.

2. Impacts on migratory birds.

3. Introduction of noxious weeds, invasive and non-native species.

4. Impacts on recreation and transportation.

5. Impacts on land use, wilderness, farmlands, and Areas of Critical Environmental Concern.

6. Impacts on cultural or historic resources and tribal values.

7. Impacts on human health and safety.

8. Impacts on air, soil, and water resources (including air quality and surface water impacts).

9. Visual impacts.

10. Socioeconomic impacts and disproportionately high and adverse impacts to minority and low-income populations.

This list is not intended to be all-inclusive or to imply any predetermination of impacts. Western invites interested parties to suggest specific issues within these general categories, or other issues not included above, to be considered in the EIS.

Public Participation

The EIS process includes a public scoping period; public scoping meetings; public review and hearings on the draft EIS; publication of a final EIS; and publication of a ROD. The public scoping period begins with publication of this notice and closes February 16, 2010. At the conclusion of the NEPA process, Western will prepare a ROD. Persons interested in receiving future notices, Project information, copies of the EIS, and other information on the NEPA review process should contact Ms. Barger at the address listed above in the ADDRESSES section.

The purpose of the scoping meetings is to provide information about the proposed Project, review Project maps, answer questions, and take written comments from interested parties. All meeting locations will be handicapped-accessible. Anyone needing special accommodations should contact Ms. Barger to make arrangements.

The public will have the opportunity to provide written comments at the public scoping meetings. Written comments may also be sent to Ms. Barger by fax, e-mail, or U.S. Postal Service mail. To help define the scope of the EIS, comments should be received by Western no later than February 16, 2010.

Dated: January 6, 2010.
Timothy J. Meeks,
Administrator.

[FR Doc. 2010-605 Filed 1-13-10; 8:45 am]

BILLING CODE 6450-01-P